DEPARTMENT OF HEALTH AND HUMAN SERVICES

Centers for Disease Control and Prevention

Disease, Disability, and Injury Prevention and Control Special Emphasis Panel: Promoting Awareness of Birth Defects Prevention, Potential Extramural Project 2008-R-14

Correction: This notice was published in the Federal Register on April 16, 2008, Volume 73, Number 74, page 20679. The aforementioned meeting has been rescheduled to the following:

Time and Date: 1 p.m.-3 p.m., June 19, 2008 (Closed).

Contact Person for More Information: Linda Shelton, Program Specialist, Coordinating Center for Health and Information Service, Office of the Director, CDC, 1600 Clifton Road, NE., Mailstop E21, Atlanta, GA 30333. Telephone (404) 498-1194.

The Director, Management Analysis and Services Office, has been delegated the authority to sign Federal Register notices pertaining to announcements of meetings and other committee management activities, for both CDC and the Agency for Toxic Substances and Disease Registry.

Dated: June 9, 2008.
Elaine L. Baker,
Director, Management Analysis and Services Office, Centers for Disease Control and Prevention.

[FR Doc. E8-13488 Filed 6-13-08; 8:45 am]

BILLING CODE 4163-18-P